DEPARTMENT OF COMMERCE

International Trade Administration

[A-469-821]

Prestressed Concrete Steel Wire Strand From Spain: Final Results of Antidumping Duty Administrative Review; 2022-2023

AGENCY: Enforcement and Compliance, International Trade Administration, Department of Commerce.

SUMMARY: The U.S. Department of Commerce (Commerce) determines that the producer/exporter subject to this administrative review made sales of subject merchandise at less than normal value during the period of review (POR) June 1, 2022, through May 31, 2023.

DATES: Applicable April 14, 2025.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On July 5, 2024, Commerce published the Preliminary Results and invited comments from interested parties.¹ On July 22, 2024, Commerce tolled certain deadlines in this proceeding by seven days.² Commerce conducted verification of the sales information provided by the sole mandatory respondent, Global Special Steel Products S.A.U. (d.b.a. Trenzas y Cables de Acero PSC, S.L.) (TYCSA).³ In October 2024, we received case and rebuttal briefs from the petitioners ⁴ and TYCSA.⁵ On October 15, 2024, Commerce extended the deadline for the final results until January 8, 2025.⁶ On December 9, 2024, Commerce tolled certain deadlines in this administrative proceeding by 90 days.⁷ The deadline for issuing the final results is now April 8, 2025. For a complete description of the events that occurred since the Preliminary Results, see the Issues and Decision Memorandum.⁸ Commerce conducted this administrative review in accordance with section 751(a)(1)(B) of the Tariff Act of 1930, as amended (the Act).

¹ See Prestressed Concrete Steel Wire Strand from Spain: Preliminary Results of Antidumping Duty Administrative Review; 2022-2023, 89 FR 55580 (July 5, 2024) (Preliminary Results), and accompanying Preliminary Decision Memorandum (PDM).

² See Memorandum, “Tolling of Deadlines for Antidumping and Countervailing Duty Proceedings,” dated July 22, 2024.

³ See Memorandum, “Verification of the Questionnaire Responses of Global Special Steel Products S.A.U. (d.b.a. Trenzas y Cables de Acero PSC, S.L.) in the 2022-2023 Antidumping Duty Administrative Review of Prestressed Concrete Steel Wire Strand from Spain,” dated September 26, 2024).

⁴ The petitioners are Insteel Wire Products Company, Sumiden Wire Products Corporation, and Wire Mesh Corp.

⁵ See Petitioners' Letter, “Petitioner's Case Brief,” dated October 4, 2024; TYCSA's Letter, “Case Brief,” dated October 4, 2024; Petitioners' Letter, “Petitioner's Rebuttal Brief,” dated October 11, 2024; and TYCSA's Letter, “Rebuttal Brief,” dated October 11, 2024.

⁶ See Memorandum, “Extension of Deadline for Final Results of Antidumping Duty Administrative Review,” dated October 15, 2024.

⁷ See Memorandum, “Tolling of Deadlines for Antidumping and Countervailing Duty Proceedings,” dated December 9, 2024.

⁸ See Memorandum, “Issues and Decision Memorandum for the Final Results of the 2022-2023 Administrative Review of the Antidumping Duty Order on Prestressed Concrete Steel Wire Strand from Spain,” dated concurrently with, and hereby adopted by, this notice (Issues and Decision Memorandum).

Scope of the Order ⁹

⁹ See Prestressed Concrete Steel Wire Strand from Indonesia, Italy, Malaysia, South Africa, Spain, Tunisia, and Ukraine: Antidumping Duty Orders, 86 FR 29998 (June 4, 2021) (Order).

The products subject to the Order are prestressed concrete steel wire strand from Spain. For a full description of the scope of the Order, see the Issues and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties regarding our Preliminary Results, we made certain changes to the weighted-average dumping margin calculations for TYCSA.¹⁰

¹⁰ For a full description of these changes, see Issues and Decision Memorandum.

Final Results of Review

For these final results, we determine the following estimated weighted-average dumping margin exists for the period June 1, 2022, through May 30, 2023:

Producer or exporter | Weighted-average dumping margin (percent)
Global Special Steel Products S.A.U. (d.b.a. Trenzas y Cables de Acero PSC, S.L.) | 3.44

Disclosure

Commerce intends to disclose the calculations performed for TYCSA in connection with these final results to interested parties within five days of any public announcement or, if there is no public announcement, within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

We calculated importer-specific ad valorem duty assessment rates on the basis of the ratio of the total amount of dumping calculated for the examined sales to the total entered value of those sales, in accordance with 19 CFR 351.212(b)(1). Where either the respondent's weighted-average dumping margin is zero or de minimis within the meaning of 19 CFR 351.106(c)(1), or an importer-specific assessment rate is zero or de minimis (i.e., less than 0.5 percent), we will instruct CBP to liquidate the appropriate entries without regard to antidumping duties.

Commerce's “automatic assessment” practice will apply to entries of subject merchandise during the POR produced by TYCSA for which it did not know that the merchandise it sold to an intermediary (e.g., a reseller, trading company, or exporter) was destined for the United States. In such instances, we will instruct CBP to liquidate unreviewed entries at the all-others rate established in the less-than-fair-value (LTFV) investigation (i.e., 14.75 percent),¹¹ if there is no rate for the intermediate company(ies) involved in the transaction.¹²

¹¹ See Order, 79 FR at 30816.

¹² For a full description of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the company listed above will be equal to the weighted-average dumping margin that is established in the final results of this review, except if the rate is less than 0.50 percent and, therefore, de minimis within the meaning of 19 CFR 351.106(c)(1), in which case the cash deposit rate will be zero; (2) for previously investigated or reviewed companies not listed above, the cash deposit rate will continue to be the company-specific rate published for the most recently completed segment of this proceeding in which the company participated; (3) if the exporter is not a firm covered in this review, a prior review, or the LTFV investigation, but the producer is, the cash deposit rate will be the cash deposit rate established for the most recently completed segment for the producer of the subject merchandise; and (4) the cash deposit rate for all other producers or exporters will continue to be 14.75 percent, the all-others rate established in the LTFV investigation.¹³ These deposit requirements, when imposed, shall remain in effect until further notice.

¹³ See Order, 79 FR at 30816.

Administrative Protective Order (APO)

This notice serves as the only reminder to parties subject to an APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

This notice is issued and published in accordance with sections 751(a)(1), 751(a)(3), and 777(i)(1) of the Act.

Dated: April 7, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether To Apply Partial Adverse Facts Available to TYCSA's Freight Expenses and Raw Material Costs

Comment 2: Application of the Freight Revenue Cap

Comment 3: Treatment of Quality Claims as Warranty Expenses

Comment 4: Treatment of Early Payment Discounts

Comment 5: Date of Sale for Export Price Sales With POR Entry Dates

Comment 6: Revising the Importer of Record Listed in the Liquidation Instructions

VI. Recommendation

[FR Doc. 2025-06286 Filed 4-11-25; 8:45 am]

BILLING CODE 3510-DS-P